DEPARTMENT OF THE INTERIOR

National Park Service

[NPS-WASO-NAGPRA-NPS0027340; PPWOCRADN0-PCU00RP14.R50000]

Notice of Inventory Completion: Historical Society of Saginaw County, Inc., Saginaw County, MI

AGENCY: National Park Service, Interior.

ACTION: Notice.

SUMMARY: The Historical Society of Saginaw County, Inc. has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Historical Society of Saginaw County, Inc. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Historical Society of Saginaw County, Inc. at the address in this notice by April 17, 2019.

ADDRESSES: Jeffrey Sommer, Historical Society of Saginaw County, Inc., 500 Federal Avenue, Saginaw, MI 48607, telephone (989) 752-2861 Ext. 308, email jsommer@castlemuseum.org.

SUPPLEMENTARY INFORMATION: Notice is here given in accordance with the Native American Graves Protection and Repatriation Act (NAGPRA), 25 U.S.C. 3003, of the completion of an inventory of human remains under the control of the Historical Society of Saginaw County, Inc., Saginaw County, MI. The human remains were removed from an unknown location in Michigan, but probably somewhere in Ogemaw County.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Historical Society of Saginaw County, Inc. professional staff in consultation with representatives of the Little Traverse Bay Bands of Odawa Indians, Michigan; Minnesota Chippewa Tribe, Minnesota (Six component reservations: Bois Forte Band (Nett Lake); Fond du Lac Band; Grand Portage Band; Leech Lake Band; Mille Lacs Band; White Earth Band); and the Saginaw Chippewa Indian Tribe of Michigan.

The Bad River Band of the Lake Superior Tribe of Chippewa Indians of the Bad River Reservation, Wisconsin; Bay Mills Indian Community, Michigan; Chippewa Cree Indians of the Rocky Boy's Reservation, Montana (previously listed as the Chippewa-Cree Indians of the Rocky Boy's Reservation, Montana; Grand Traverse Band of Ottawa and Chippewa Indians, Michigan; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Minnesota Chippewa Tribe, Minnesota (Six component reservations: Bois Forte Band (Nett Lake), Fond du Lac Band, Grand Portage Band, Leech Lake Band, Mille Lacs Band, White Earth Band); Red Cliff Band of Lake Superior Chippewa Indians of Wisconsin; Red Lake Band of Chippewa Indians, Minnesota; Sault Ste. Marie Tribe of Chippewa Indians, Michigan; Sokaogon Chippewa Community, Wisconsin; St. Croix Chippewa Indians of Wisconsin; and the Turtle Mountain Band of Chippewa Indians of North Dakota, were invited to consult, but did not participate.

Hereafter, all Tribes listed in this section are referred to as “The Consulted and Invited Tribes.”

History and Description of the Remains

Human remains representing, at minimum, one individual were removed from an undetermined location, but probably somewhere in Ogemaw County, MI. The human remains were found in the Ralph Stroebel collection and in association with materials from the Rifle River Earthworks (20OG1, 20OG2, 20OG3, and 20OG4). However, notes describing Stroebel's collection from the Earthworks and surrounding area do not list any bone materials. Furthermore, the dates listed in the notes do not match the dates written on some of the specimens. These discrepancies leave open the possibility that the human remains are not actually from the area around the earthworks. According to accompanying labels the individual was found in 1943. No known individuals were identified. No associated funerary objects are present.

The human remains are not listed specifically in museum records, but they may have been part of a large accession of historical and archeological material donated to the Historical Society of Saginaw County, Inc. in 1987. Most of the archeological material in the Stroebel collection is known to have been surface collected; the same is likely true for the human remains. However, no notes or other documentation describing the circumstances of discovery of the remains are known to exist. The fragmentary human remains are presumed to be Native American based solely on their probably having been removed from a site or sites known to have been occupied by Native Americans in prehistoric times.

Determinations Made by the Historical Society of Saginaw County, Inc.

Officials of the Historical Society of Saginaw County, Inc. have determined that:

• Pursuant to 25 U.S.C. 3001(9), the human remains described in this notice are Native American based on their general archeological context.

• Pursuant to 25 U.S.C. 3001(9), the human remains described in this notice represent the physical remains of one individual of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of the Saginaw Chippewa Indian Tribe of Michigan.

• Treaties, Acts of Congress, or Executive Orders, indicate that the land from which the Native American human remains were removed is the aboriginal land of The Consulted and Invited Tribes.

• Pursuant to 43 CFR 10.11(c)(1), the disposition of the human remains may be to The Consulted and Invited Tribes.

Additional Requestors and Disposition

Representatives of any Indian Tribe or Native Hawaiian organization not identified in this notice that wish to request transfer of control of these human remains should submit a written request with information in support of the request to Jeffrey Sommer, Historical Society of Saginaw County, Inc., 500 Federal Avenue, Saginaw, MI 48607, telephone (989) 752-2861 Ext. 308, email jsommer@castlemuseum.org, by April 17, 2019. After that date, if no additional requestors have come forward, transfer of control of the human remains to The Consulted and Invited Tribes may proceed.

The Historical Society of Saginaw County, Inc. is responsible for notifying The Consulted and Invited Tribes that this notice has been published.

Dated: February 12, 2019.
Melanie O'Brien,
Manager, National NAGPRA Program.

[FR Doc. 2019-04923 Filed 3-15-19; 8:45 am]

BILLING CODE 4312-52-P